DEPARTMENT OF TRANSPORTATION

Pipeline And Hazardous Materials Safety Administration

Office of Hazardous Materials Safety Notice of Applications for Modification of Special Permit

AGENCY: Pipeline and Hazardous Materials Safety Administration (PHIMSA), DOT.

ACTION: List of Applications for Modification of Special Permits.

SUMMARY: In accordance with the procedures governing the application for, and the processing of, special permits from the Department of Transportation's Hazardous Material Regulations (49 CFR Part 107, Subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before July 5, 2012.

ADDRESSES: ADDRESS COMMENTS TO:Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for modification of special permit is published in accordance with Part 107 of the Federal hazardous materials transportation law (49 U.S.C. 5117(b); 49 CFR 1.53(b)).

Issued in Washington, DC, on June 11, 2012.
Donald Burger,
Chief, General Approvals and Permits.

Modification Special Permits
Application No. | Docket No. | Applicant | Regulation(s) affected | Nature of special permit thereof
3549-M |  | Sandia National Laboratories Albuquerque, NM | 49 CFR 172.101; 173.54; 173.56; 173.62 | To modify the special permit to authorize the transportation in commerce of additional Division 1.1 hazardous materials.
11629-M |  | U.S. Department of Defense Scott AFB, IL | 49 CFR 106; 107; 171-180 | To modify the special permit to authorize the transportation in commerce of additional Division 1.2 and 1.3 hazardous materials.
12102-M |  | EQ Industrial Services, Inc. Ypsilanti, MI | 49 CFR 173.56(i); 173.56(b) | To modify the special permit to authorize additional Class 1 materials authorized to be transported as Division 4.1.
13102-M |  | Robertshaw Industrial Products dba Invensys Controls Maryville, TN | 49 CFR 173.150(b); 173.222(c); 173.306(a); 173.322 | To modify the special permit to authorize the transportation in commerce of additional Division 2.1 and 3 hazardous materials.
14509-M |  | Pacific Consolidated Industries, LLC Riverside, CA | 49 CFR 173.302(a)(1), 173.304a(a)(1), 175.3 | To modify the special permit to authorize the transportation in commerce of cylinders containing oxidizing gases without a rigid outer packaging capable of passing the Flame Penetration and Resistance Test and the Thermal Resistance Test.
15372-M |  | Takata de Mexico, S.A. C.V. de Ciudad Frontera | 49 CFR 173.301(a), 173.302(a), 178.65(f)(2) | To modify the special permit to authorize the manufacture and filling of additional pressure vessels for use as components of airbag safety systems.
15540-M |  | Andrew Airways, Inc. Kodiak, AK | 49 CFR 175.310(c) | To modify the special permit originally issued on an emergency basis and make it permanent.

[FR Doc. 2012-14693 Filed 6-18-12; 8:45 am]

BILLING CODE 4909-60-M